INTERNATIONAL TRADE COMMISSION

[Investigation Nos. 701-TA-707 and 731-TA-1668 (Final)]

Melamine From India; Supplemental Schedule for the Final Phase of Countervailing Duty and Antidumping Duty Investigations

AGENCY: United States International Trade Commission.

ACTION: Notice.

DATES: February 12, 2025.

FOR FURTHER INFORMATION CONTACT: Keysha Martinez ((202) 205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 24, 2024, the Commission established a general schedule for the conduct of the final phase of its countervailing duty investigations on melamine from Germany, India, Qatar, and Trinidad and Tobago and its antidumping duty investigations on melamine from Germany, India, Japan, Netherlands, Qatar, and Trinidad and Tobago (89 FR 79637, September 30, 2024), following preliminary determinations by the U.S. Department of Commerce (“Commerce”) that imports of melamine are being subsidized by the governments of Germany, India, Qatar, and Trinidad and Tobago (89 FR 59045, 59053, 59055, and 59057, July 22, 2024) and imports of melamine from Germany, India, Japan, Netherlands, Qatar, and Trinidad and Tobago are being sold at less than fair value (89 FR 77814, 77819, 77822, 77824, 77829, and 77832, September 24, 2024). Notice of the scheduling of the final phase of the Commission's investigations and of a public hearing held in connection therewith was given by posting copies of the notice in the Office of the Secretary, U.S. International Trade Commission, Washington, DC, and by publishing the notice in the Federal Register on September 30, 2024 (89 FR 79637). The Commission conducted its in-person hearing on December 3, 2024. All persons who requested the opportunity were permitted to participate.

On December 9, 2024, Commerce issued final affirmative countervailing duty determinations with respect to melamine from Germany, Qatar, and Trinidad and Tobago (89 FR 97586, 97593, and 97599) and final affirmative antidumping duty determinations with respect to melamine from Germany, Japan, Netherlands, and Trinidad and Tobago (89 FR 97584, 97590, 97598, and 97601).¹ The Commission subsequently issued its final determinations that an industry in the United States was materially injured by reason of imports of melamine from Germany and Qatar provided for in subheading 2933.61.00 of the Harmonized Tariff Schedule of the United States (“HTSUS”) that have been found by Commerce to be subsidized by the governments of Germany and Qatar and by reason of imports of melamine from Germany, Japan, and Netherlands that have been found by Commerce to be sold at LTFV. The Commission also issued its final determinations that an industry in the United States is threatened with material injury by reason of imports of melamine from Trinidad and Tobago that have been found by Commerce to be subsidized by the government of Trinidad and Tobago and sold in the United States at LTFV (90 FR 8405, January 29, 2025).

¹ Commerce also made a final negative determination with respect to melamine from Qatar. Commerce also found that imports of melamine from Qatar were not being sold at LTFV (89 FR 97592, December 9, 2024). On December 20, 2024, the Commission published notice of its termination of the antidumping duty investigation on imports of melamine from Qatar (89 FR 104206).

On February 12, 2025, Commerce's final affirmative countervailing duty and antidumping duty determinations with respect to imports of melamine from India (90 FR 9413 and 9415) were published in the Federal Register. Accordingly, the Commission currently is issuing a supplemental schedule for its countervailing duty and antidumping duty investigations on imports of melamine from India.

This supplemental schedule is as follows: the deadline for filing supplemental party comments on Commerce's final countervailing duty and antidumping duty determinations is 5:15 p.m. on February 24, 2025. Supplemental party comments may address only Commerce's final countervailing duty and antidumping duty determinations regarding imports of melamine from India. These supplemental final comments may not contain new factual information and may not exceed five (5) pages in length. The supplemental staff report in the final phase of the current investigations will be placed in the nonpublic record on March 12, 2025, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov). No in-person paper-based filings or paper copies of any electronic filings will be accepted until further notice.

Authority: This proceeding is being conducted under authority of title VII of the Tariff Act of 1930; this notice is published pursuant to section 207.21 of the Commission's rules.

By order of the Commission.
Issued: February 14, 2025.
Sharon Bellamy,
Supervisory Hearings and Information Officer.

[FR Doc. 2025-02884 Filed 2-20-25; 8:45 am]

BILLING CODE 7020-02-P